NUCLEAR REGULATORY COMMISSION

[Docket No. 72-11; NRC-2017-0110]

Sacramento Municipal Utility District; Rancho Seco Independent Spent Fuel Storage Installation

AGENCY: Nuclear Regulatory Commission.

ACTION: License amendment application; issuance.

SUMMARY: The U.S. Nuclear Regulatory Commission (NRC) reviewed an application by Sacramento Municipal Utility District (SMUD or the licensee) for amendment of Materials License No. SNM-2510, which authorizes the storage of spent nuclear fuel and greater than Class C waste at the Rancho Seco Independent Spent Fuel Storage Installation, located in Herald, California. The licensee requested authorization to allow the continued storage of byproduct nuclear material to check the functionality of radiation detection instruments.

DATES: December 4, 2017.

ADDRESSES: Please refer to Docket ID NRC-2017-0110 when contacting the NRC about the availability of information regarding this document. You may obtain publicly-available information related to this document using any of the following methods:

• Federal Rulemaking Web site: Go to http://www.regulations.gov and search for Docket ID NRC-2017-0110. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

FOR FURTHER INFORMATION CONTACT: William Allen, Office of Nuclear Material Safety and Safeguards, U.S. Nuclear Regulatory Commission, Washington, DC 20555-0001; telephone: 301-415-6877, email: William.Allen@nrc.gov.

SUPPLEMENTARY INFORMATION: By letter dated January 17, 2017 (ADAMS Accession No. ML15259A590), as supplemented August 27, 2017 (ADAMS Accession No. ML17236A170), SMUD submitted a license amendment request (LAR) to the NRC in accordance with section 72.56 of title 10 of the Code of Federal Regulations (10 CFR), to allow the storage of byproduct nuclear material in the form of a check source which is used to check the functionality of radiation detection instruments. Currently, the source is licensed under 10 CFR part 30 which is incorporated under the Rancho Seco Nuclear Generating Station (RSNGS) 10 CFR part 50 license. Prior to terminating the 10 CFR part 50 license, SMUD requested the NRC amend the 10 CFR part 72 ISFSI license to incorporate the 10 CFR part 30 source. The NRC staff (staff) docketed the application, and in accordance with 10 CFR 72.46(b)(1), a Notice of Proposed Action and a Notice of Opportunity for Hearing was published in the Federal Register on May 5, 2017 (82 FR 21270). No requests for a hearing or leave to intervene were submitted.

The NRC staff has completed its review of the January 17, 2017 LAR, and has determined that it complies with the standards and requirements of the Atomic Energy Act of 1954, as amended (the Act), as well as the NRC's rules and regulations. As required by the Act and the NRC's rules and regulations in 10 CFR chapter 1, the NRC staff made the appropriate findings which are contained in a safety evaluation report (ADAMS Accession No. ML17290A010). The NRC has thus granted the LAR and has accordingly issued Amendment No. 4 to Materials License No. SNM-2510.

The NRC prepared a safety evaluation report (SER) (ADAMS Accession No. ML17290A010) to document its review and evaluation of the amendment request. As further explained in the SER, the NRC has also determined that the license amendment is administrative in nature, and therefore satisfies the 10 CFR 51.22(c)(11) criteria for a categorical exclusion from the requirement to prepare an environmental assessment. Under 10 CFR 51.22(c)(11), this action is eligible for categorical exclusion, because it is an amendment to a materials licenses which is administrative, organizational, or procedural in nature, or which results in a change in process operations or equipment, provided that (i) there is no significant change in the types or significant increase in the amounts of any effluents that may be released offsite, (ii) there is no significant increase in individual or cumulative occupational radiation exposure, (iii) there is no significant construction impact, and (iv) there is no significant increase in the potential for or consequences from radiological accidents. Consequently, an environmental assessment and finding of no significant impact are not required. This amendment was effective upon issuance.

Dated at Rockville, Maryland, this 9th day of November 2017.
For the Nuclear Regulatory Commission.
Meraj Rahimi,
Acting Chief, Spent Fuel Licensing Branch, Division of Spent Fuel Management, Office of Nuclear Material Safety and Safeguards.

[FR Doc. 2017-25975 Filed 12-1-17; 8:45 am]

BILLING CODE 7590-01-P